DEPARTMENT OF THE INTERIOR

National Park Service

[NPS-WASO-NAGPRA-NPS0039643; PPWOCRADN0-PCU00RP14.R50000]

Notice of Inventory Completion: U.S. Department of the Interior, Bureau of Reclamation, California—Great Basin Region, Sacramento, CA

AGENCY: National Park Service, Interior.

ACTION: Notice.

SUMMARY: In accordance with the Native American Graves Protection and Repatriation Act (NAGPRA), the U.S. Department of the Interior, Bureau of Reclamation (Reclamation) has completed an inventory of human remains and associated funerary objects and has determined that there is a cultural affiliation between the human remains and associated funerary objects and the Indian Tribes or Native Hawaiian organizations in this notice.

DATES: Repatriation of the human remains and associated funerary objects in this notice may occur on or after April 17, 2025.

ADDRESSES: Dr. Melanie Ryan, Bureau of Reclamation, California—Great Basin Regional Office, 2800 Cottage Way, Sacramento, CA 95825, telephone (916) 978-5526, email emryan@usbr.gov.

SUPPLEMENTARY INFORMATION: This notice is published as part of the National Park Service's administrative responsibilities under NAGPRA. The determinations in this notice are the sole responsibility of Reclamation, and additional information on the determinations in this notice, including the results of consultation, can be found in its inventory or related records. The National Park Service is not responsible for the determinations in this notice.

Abstract of Information Available

Human remains representing, at least, one individual has been identified. The seven associated funerary objects are one basalt scraper plane, one piece of miscellaneous groundstone, and five pieces of mixed debitage. Site CA-SIS-259 (Sheepy East 1) is located on a low mound on the northeast shore of Lower Klamath Lake, Siskiyou County, California. The site is located on U.S. Fish and Wildlife Service (the Service) lands on which Reclamation maintains water facilities and administers a land leasing program under a cooperative agreement with the Service. On March 12, 2024, the Service formally transferred ownership of the collection from CA-SIS-259 to Reclamation.

In 1984, the Far Western Anthropological Research Group, Inc., while under contract to Reclamation, conducted test excavations to evaluate the site for listing on the National Register of Historic Places. No burials were recorded during the excavation. However, six pieces of disassociated human bone were found. Seven items were found in the same unit and level as the remains and they are included as associated funerary objects because of their proximity to the remains.

In 1995, UC Davis completed a NAGPRA inventory and Notice of Inventory Completion for site CA-SIS-259 that was submitted to the National NAGPRA Program as part of an agreement with Reclamation. In 2006, Reclamation withdrew the Notice of Inventory Completion to confirm land status and possession or control authority. The collection was curated at the University of California Davis, Davis, CA (UC Davis) under Accession Number 367 until it was transferred to a secure Reclamation facility nearby in 2023.

The earliest occupation of CA-SIS-259, a temporary camp, dates to approximately A.D. 250 (McGuire 1985:i, 33). In addition to the presence of time-sensitive Gunther Barbed projectile points and beads, dates derived from radiocarbon analysis of nonhuman bone collagen and obsidian hydration, places the occupation of the site between A.D. 250 and 1350, with the most intense occupation occurring around A.D. 1300 (McGuire (1985:i, 33).

There is a reasonably clear line of relationship with the Modoc Nation at this site, based upon the subsistence practices represented (McGuire 1985:55-60). Although archaeological and linguistic evidence indicates that other groups may have traveled through the area during this time (McGuire 1985:61-62, Bettinger 1995:6), the radiocarbon date of A.D. 1340 and a subsistence pattern that includes intensive fish and antelope processing indicate that the human remains recovered from site CA-SIS-259 are most likely affiliated with the Modoc Nation.

Cultural Affiliation

Based on the information available and the results of consultation, cultural affiliation is clearly identified by the information available about the human remains and associated funerary objects described in this notice.

Determinations

Reclamation has determined that:

• The human remains described in this notice represent the physical remains of one individual of Native American ancestry.

• The seven objects described in this notice are reasonably believed to have been placed intentionally with or near individual human remains at the time of death or later as part of the death rite or ceremony.

• There is a reasonable connection between the human remains described in this notice and the Klamath Tribes and the Modoc Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 17, 2025. If competing requests for repatriation are received, the Bureau of Reclamation must determine the most appropriate requestor prior to repatriation. Requests for joint repatriation of the human remains and associated funerary objects are considered a single request and not competing requests. The Bureau of Reclamation is responsible for sending a copy of this notice to the Indian Tribes and Native Hawaiian organizations identified in this notice.

Authority: Native American Graves Protection and Repatriation Act, 25 U.S.C. 3003, and the implementing regulations, 43 CFR 10.10.

Dated: March 5, 2025.
Melanie O'Brien,
Manager, National NAGPRA Program.

[FR Doc. 2025-04630 Filed 3-18-25; 8:45 am]

BILLING CODE 4312-52-P